DEPARTMENT OF COMMERCE

International Trade Administration

(A-580-816)

Notice of Final Results of the Tenth Administrative Review and New Shipper Review of the Antidumping Duty Order on Certain Corrosion-Resistant Carbon Steel Flat Products from the Republic of Korea

AGENCY: Import Administration, International Trade Administration, Department of Commerce.

SUMMARY: On September 7, 2004, the Department of Commerce (the Department) published the preliminary results of the antidumping duty administrative review and antidumping duty new shipper review for certain corrosion-resistant carbon steel flat products (CORE) from the Republic of Korea (Preliminary Results). This review covers four manufacturers and exporters of the subject merchandise: Union Steel Manufacturing Co., Ltd. (Union); Pohang Iron & Steel Company, Ltd. (POSCO), Pohang Coated Steel Co., Ltd. (POCOS), and Pohang Steel Industries Co., Ltd. (PSI) (collectively, POSCO); Dongbu Steel Corporation, Ltd. (Dongbu); and Dongshin Special Steel Co., Ltd. (Dongshin).¹ The period of review (POR) is August 1, 2002, through July 31, 2003. In response to a request from Hyundai Hysco (HYSCO), the Department is also conducting a new shipper review. The POR for the new shipper review is also August 1, 2002, through July 31, 2003.

¹ On May 5, 2004, the Department rescinded the review of SeAH Steel Corporation (SeAH) because neither SeAH nor its affiliates had exports or sales of the subject merchandise to the United States during the POR. See Corrosion-Resistant Carbon Steel Flat Products from Korea: Partial Rescission of Antidumping Duty Administrative Review, 69 FR 25059 (May 5, 2004). On June 22, 2004, the Department published a correction regarding its rescission of the review of SeAH. See Corrosion-Resistant Carbon Steel Flat Products from Korea: Partial Rescission of Antidumping Duty Administrative Review, 69 FR 34646, in which the Department addressed a comment from petitioners that it inadvertently failed to address in the March 4, 2004, rescission notice. Upon review of petitioners' additional comment, the Department determined to continue to rescind the review of SeAH. Id. at 34647.

As a result of our analysis of the comments received, these final results differ from the preliminary results. For our final results, we have found that during the POR POSCO sold subject merchandise at less than normal value (NV). We have also found that Union, Dongbu, and HYSCO did not make sales of the subject merchandise at less than NV (i.e., they have “zero” or de minimis dumping margins). Regarding Dongshin, because it failed to respond to the Department's questionnaire, we preliminarily determined to resort to adverse facts available and assigned to Dongshin the all others rate in effect for this order (17.70 percent), which is the highest margin upheld in this proceeding. See Preliminary Results, 69 FR at 54104. Since the publication of the Preliminary Results, we have not received any comments from interested parties that would warrant reconsideration of our finding. Therefore, we have continued to assign a rate of 17.70 percent to Dongshin. The final results are listed in the “Final Results of Review” section below. Furthermore, we rescinded the request for review of the antidumping order for SeAH Steel Corporation (SeAH) because neither SeAH nor its affiliates had exports or sales of subject merchandise to the United States during the POR. For more information, see Corrosion-Resistant Carbon Steel Flat Products from Korea: Partial Rescission of Antidumping Duty Administrative Review, 69 FR 25059 (May 5, 2004) (Partial Rescission of CORE).

EFFECTIVE DATE: March 14, 2005.

FOR FURTHER INFORMATION CONTACT: Martin Claessens (Union), Preeti Tolani (Dongbu), Lyman Armstrong (POSCO), and Joy Zhang (HYSCO) at (202) 482-5451, (202) 482-0395, (202) 482-3601, and (202) 482-1168, respectively; AD/CVD Operations, Office 3, Import Administration, International Trade Administration, U.S. Department of Commerce, 14th Street and Constitution Avenue, NW, Washington, DC 20230.

SUPPLEMENTARY INFORMATION:

Background

On September 7, 2004, the Department of Commerce published the Preliminary Results of Antidumping Duty Administrative Review and Antidumping Duty New Shipper Review for Certain Corrosion-resistant Carbon Steel Flat Products from the Republic of Korea, 69 FR 54101 (September 7, 2004). On October 29, 2004, the Department published the notice of extension of final results of the antidumping administrative review of corrosion-resistant carbon steel flat products from Korea, extending the date for these final results to March 7, 2005. See Corrosion Resistant Carbon Steel Flat Products from Korea: Extension of Time Limits for the Final Results of Antidumping Administrative Review and New Shipper Review, 69 FR 63140.

From November 8 through November 19, 2004, the Department conducted the cost verification of POSCO in Pohang, South Korea, and the sales verification in Seoul, South Korea. The constructed export price (CEP) verification was conducted at POSAM's headquarters in Fort Lee, New Jersey, on January 13 and 14, 2005. The Department conducted the cost and sales verification of Union in Seoul, South Korea, from November 10 through November 23, 2004, and the CEP verification was conducted at the Torrance, California, facility of Dongkuk International, Inc. on January 25 and 26, 2005. The Department conducted the cost and sales verification of Dongbu in Seoul, South Korea, from January 11 through January 21, 2005, and the CEP verification was conducted at the Torrance, California, facility of Dongbu's subsidiary, Dongbu USA Incorporated on January 27 and January 28, 2005. From January 10 through January 21, 2005, the Department conducted the sales verification of HYSCO in Seoul, South Korea and the cost verification at HYSCO's plant in Suncheon, South Korea.

Comments from Interested Parties

We invited parties to comment on our Preliminary Results. On February 11, 2005, United States Steel Corporation (US Steel) filed case briefs, concerning POSCO and Union, and International Steel Group (ISG) filed a case brief concerning POSCO, Union, Dongbu, and HYSCO.² POSCO and Union, each filed case briefs on February 11, 2005. On February 16, 2005, US Steel and ISG submitted rebuttal briefs concerning POSCO, and Union, Dongbu, and HYSCO also submitted rebuttal briefs. On February 18, 2005, a public hearing was held at the Department with respect to POSCO, Union, Dongbu, and HYSCO.

² US Steel and ISG are petitioners in this segment of the proceeding.

Scope of the Order

This order covers cold-rolled (cold-reduced) carbon steel flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this order are corrosion-resistant flat-rolled products of nonrectangular cross-section where such cross-section is achieved subsequent to the rolling process (i.e., products which have been “worked after rolling”) for example, products which have been beveled or rounded at the edges. Excluded from this order are flat-rolled steel products either plated or coated with tin, lead, chromium, chromium oxides, both tin and lead (“terne plate”), or both chromium and chromium oxides (“tin-free steel”), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%-60%-20% ratio.

These HTSUS item numbers are provided for convenience and customs purposes. The written descriptions remain dispositive.

Analysis of Comments Received

All issues raised in the case and rebuttal brief by parties to these administrative reviews are addressed in the Issues and Decision Memorandum, which is hereby adopted by this notice. A list of the issues which parties have raised, and to which we have responded in the Issues and Decision Memorandum, is attached to this notice as an Appendix. In addition, a complete version of the Issues and Decision Memorandum can be accessed directly on the Web at http://ia.ita.doc.gov/frn. The paper copy and electronic version of the Decision Memorandum are identical in content.

Final Results of Review

We determine that the following weighted-average margins exist:

Producer/Manufacturer | Weighted-Average Margin
Dongbu | 0.33 de minimis
Union | 0.36 de minimis
POSCO | 2.34
HYSCO | 0.00
Dongshin | 17.70%

Assessment

The Department will determine, and Customs and Border Protection (CBP) shall assess, antidumping duties on all appropriate entries, pursuant to 19 CFR 351.212(b). The Department calculated importer-specific duty assessment rates on the basis of the ratio of the total antidumping duties calculated for the examined sales to the total entered value of the examined sales for that importer. Where the assessment rate is above de minimis, we will instruct CBP to assess duties on all entries of subject merchandise by that importer. The Department will issue appropriate assessment instructions directly to CBP within 15 days of publication of these final results.

Cash Deposit Requirements

Furthermore, the following deposit requirements will be effective upon publication of the final results of this administrative review for all shipments of CORE from Korea entered, or withdrawn from warehouse, for consumption on or after the publication date of these final results, as provided by section 751(a) of the Tariff Act of 1930, as amended (the Act): (1) for companies covered by this review, the cash deposit rate will be the rate listed above; (2) for previously reviewed or investigated companies other than those covered by this review, the cash deposit rate will be the company-specific rate established for the most recent period; (3) if the exporter is not a firm covered in this review, a prior review, or the investigation, but the producer is, the cash deposit rate will be the rate established for the most recent period for the manufacturer of the subject merchandise; and (4) if neither the exporter nor the producer is a firm covered in this review, a prior review, or the investigation, the cash deposit rate will be 17.70 percent, the “All Others” rate established in the less-than-fair-value investigation. These deposit requirements shall remain in effect until publication of the final results of the next administrative review.

This notice also serves as a final reminder to importers of their responsibility under 19 CFR 351.402 (f) to file a certificate regarding the reimbursement of antidumping duties prior to liquidation of the relevant entries during this review period. Failure to comply with this requirement could result in the presumption that reimbursement of antidumping duties occurred and the subsequent increase in antidumping duties by the amount of antidumping duties reimbursed.

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: March 7, 2005.
Joseph A. Spetrini,
Acting Assistant Secretary for Import Administration.

APPENDIX I

List of Comments and Issues in the Decision Memorandum

General Issues:

Comment 1: Whether the Department Should Request Further Information and Change its Model-Match Methodology

Comment 2: Whether Expenses Incurred by Parent Companies in Korea for Activities Performed There Should Be Treated as Constructed Export Price (CEP) Selling Expenses

Comment 3: Whether POSCO and Dongbu Have Provided Sufficient Evidence to Make a Case for the Department to Allow CEP Offsets

Comment 4: Whether the Department Should Modify its Existing Criteria for Adjusting U.S. Prices for Drawback and Restate or Disallow Respondents' Drawback Adjustments

Comment 5: Whether the Department Should Deduct “Safeguard Duties” When Calculating United States Prices

Company-Specific Issues:

Dongbu

Comment 1: Whether the Department Should Exclude Certain Low-priced Home Market Sales from Dongbu's Database

Comment 2: Whether the Department Should Recalculate Dongbu's Credit Expenses on Home Market Sales Denominated in U.S. Dollars

Comment 3: Whether the Department Should Reallocate Dongbu's Home Market Indirect Selling Expenses on the Basis of Sales

Comment 4: Whether the Department Should Recalculate Dongbu's U.S. Interest Revenue Based on a 365-day Year

Comment 5: Whether the Department Should Use Dongbu's Standard Costs plus POR Variances or Historical Costs Adjusted for Inflation in Order to Calculate the Cost of Production of Merchandise Sold but Not Produced During the POR

POSCO

Comment 6: Whether the Department Should Exclude POSCO's “Unusual” U.S. Sale from its Margin Calculation Or, Alternatively, Treat it as Non-prime

Comment 7: Whether the Department Should Adjust POSCO's Reported Duty Drawback

Comment 8: Whether the Department Should Recalculate POSCO's Credit Expense to Take into Account On-invoice Rebates

Comment 9: Whether the Department Should Revise POSCO's General and Administrative Selling (G&A) Expense Ratio

Comment 10:Whether the Department Should Revise POSCO's Interest Expense Ratio

Comment 11:Whether the Department Should Re-Calculate POSAM's U.S. Indirect Selling Expense (ISE)

Comment 12:Whether the Department Should Calculate POSAM's Net Interest Expense and Add it to POSAM's U.S. Indirect Selling Expense

Comment 13: Whether Department Should Re-Calculate POSCO's U.S. Credit Expense

Comment 14: Ministerial Errors with Respect to POSCO's Overrun Sales and Seconds

Comment 15:Whether the Department Should Adjust POSCO's Home Market Interest Revenue

Union

Comment 16: Whether Union's Scrap Offsets Include Value Added Tax (VAT)

Comment 17: Whether Union Reimbursed Dongkuk International, Inc. for Antidumping Duties

Comment 18: Ministerial Errors for Union

Comment 19: Union's U.S. Indirect Selling Expenses - Commission Sales

Comment 20: Union's U.S. Indirect Selling Expenses - Slab and Scrap Revenue

Comment 21: Union's Treatment of Bad Debt Expenses

Comment 22: Union's Net U.S. Interest Expense

Comment 23: Whether to Use Partial Facts Available for Union - Freight Costs

HYSCO

Comment 24: Whether the Department Should Treat HYSCO's U.S. After-Sale Technical Service as a Direct Selling Expense

Comment 25: Whether HYSCO Failed to Report Warehousing Expenses for Its U.S. Sales

Comment 26: Whether HYSCO Fails to Report U.S. Commissions

Comment 27: Whether HYSCO Misreported its Home Market Indirect Selling Expenses

Comment 28: Whether the Department Should Treat Certain HYSCO's Local Sales as U.S. Sales

Comment 29: Whether the Department Should Recalculate HYSCO's Costs by Applying Different Production Yields

[FR Doc. E5-1065 Filed 3-11-05; 8:45 am]

BILLING CODE: 3510-DS-S